DEPARTMENT OF HEALTH AND HUMAN SERVICES

Substance Abuse and Mental Health Services Administration (SAMHSA)

Center for Substance Abuse Prevention; Notice of Meeting

Pursuant to Public Law 92-463, notice is hereby given of a Teleconference Meeting of the SAMHSA Center for Substance Abuse Prevention (CSAP) National Advisory Council on November 6, 2006.

The meeting will be open and will include discussion of the Center's policy issues and current administrative, legislative and program developments. The public is invited to attend the meeting in person or listen to the discussions via telephone. Due to limited space, seating will be on a registration-only basis. To register, contact the Council Executive Secretary, Ms. Tia Haynes (see contact information below) to obtain the teleconference call-in number and access code. Please communicate with Ms. Haynes to make arrangements to comment or to request special accommodations for persons with disabilities.

Substantive program information, a summary of the meeting, and a roster of Council members may be obtained after the meeting by contacting Ms. Haynes or by accessing the SAMHSA Council Web site, http://www.samhsa.gov/council/csap/csapnac.aspx, as soon as possible after the meeting. The transcript for the meeting will also be available on the SAMHSA Council Web site within three weeks after the meeting.

Committee Name: Substance Abuse and Mental Health Services Administration; Center for Substance Abuse Prevention National Advisory Council.

Date/Time: Monday, November 6, 2006, 1 p.m. to 3 p.m. (Open).

Place: 1 Choke Cherry Road, Video Teleconference Room, L-1057, Rockville, Maryland 20857.

Contact: Tia Haynes, Executive Secretary, SAMHSA/CSAP National Advisory Council, 1 Choke Cherry Road, 4-1066, Rockville, Maryland 20857, telephone: (240) 276-2436, fax: (240) 276-2430, e-mail: tia.haynes@samhsa.hhs.gov.

Dated: October 18, 2006.
Toian Vaughn,
Committee Management Officer, Substance Abuse and Mental Health Services Administration.

[FR Doc. E6-17859 Filed 10-24-06; 8:45 am]

BILLING CODE 4162-20-P